DEPARTMENT OF COMMERCE

Foreign-Trade Zones Board

[Order No. 1900]

Expansion of Foreign-Trade Zone 158; Vicksburg/Jackson, Mississippi

Pursuant to its authority under the Foreign-Trade Zones Act of June 18, 1934, as amended (19 U.S.C. 81a-81u), the Foreign-Trade Zones Board (the Board) adopts the following Order:

Whereas, the Greater Mississippi Foreign-Trade Zone, Inc., grantee of Foreign-Trade Zone (FTZ) 158, submitted an application to the Board for authority to expand FTZ 158 to include a site in Gluckstadt and Madison, Mississippi, and to restore zone status to 52 acres at existing Site 2, adjacent to the Vicksburg Customs and Border Protection port of entry (Docket 21-2012, filed March 23, 2012);

Whereas, notice inviting public comment has been given in the Federal Register (77 FR 19002-19003, 3/29/2012) and the application has been processed pursuant to the FTZ Act and the Board's regulations; and,

Whereas, the Board adopts the findings and recommendations of the examiner's report, and finds that the requirements of the FTZ Act and the Board's regulations would be satisfied, and that the proposal would be in the public interest if subject to specific conditions;

Now, therefore, the Board hereby orders:

The application to expand FTZ 158 is approved, subject to the FTZ Act and the Board's regulations, including Section 400.13, to the Board's standard 2,000-acre activation limit for the overall general-purpose zone, to a sunset provision that would terminate authority on May 31, 2018, for Site 18 if no activity has occurred under FTZ procedures before that date and to Site 2's existing sunset date of October 31, 2017, for the restored acreage at Site 2.

Signed at Washington, DC, this 23rd day of May 2013.
Paul Piquado,
Assistant Secretary of Commerce for Import Administration, Alternate Chairman, Foreign-Trade Zones Board.
ATTEST:
Andrew McGilvray,
Executive Secretary.

[FR Doc. 2013-13250 Filed 6-3-13; 8:45 am]

BILLING CODE 3510-DS-P